DEPARTMENT OF THE TREASURY

Office of Thrift Supervision

Bayside Savings Bank, Port St. Joe, FL; Notice of Appointment of Receiver

Notice is hereby given that, pursuant to the authority contained in section 5(d)(2) of the Home Owners' Loan Act, the Office of Thrift Supervision has duly appointed the Federal Deposit Insurance Corporation as sole Receiver for Bayside Savings Bank, Port St. Joe, Florida, (OTS No. 17957) on July 30, 2010.

Dated: August 2, 2010.
By the Office of Thrift Supervision.
Sandra E. Evans,
Federal Register Liaison.

[FR Doc. 2010-19364 Filed 8-6-10; 8:45 am]

BILLING CODE 6720-01-M